DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator for Risk Management (Acting), Federal Emergency Management Agency, Department of Homeland Security.

State and county | Location and case No. | Chief executive officer of community | Community map repository | Date of modification | Community No.
Colorado: Denver (FEMA Docket No.: B-2251) | City and County of Denver (22-08-0130P) | The Honorable Michael B. Hancock, Mayor, City and County of Denver, 1437 Bannock Street, Room 350, Denver, CO 80202 | Department of Transportation and Infrastructure, 201 West Colfax Avenue, Department 608, Denver, CO 80202 | Oct. 14, 2022 | 080046
Delaware: Sussex (FEMA Docket No.: B-2259) | Unincorporated areas of Sussex County (22-03-0052P) | The Honorable Michael H. Vincent, President, Sussex County Council, P.O. Box 589, Georgetown, DE 19947 | Sussex County Planning and Zoning Department, 2 The Circle, Georgetown, DE 19947 | Oct. 13, 2022 | 100029
Florida:
Broward (FEMA Docket No.: B-2253) | City of Oakland Park (22-04-0596P) | The Honorable Michael E. Carn, Mayor, City of Oakland Park, 3650 Northeast 12th Avenue, Oakland Park, FL 33334 | City Hall, 3650 Northeast 12th Avenue, Oakland Park, FL 33334 | Oct. 11, 2022 | 120050
Collier (FEMA Docket No.: B-2251) | City of Marco Island (22-04-2823P) | Mike McNees, Manager, City of Marco Island, 50 Bald Eagle Drive, Marco Island, FL 34145 | Building Services Department, 50 Bald Eagle Drive, Marco Island, FL 34145 | Oct. 11, 2022 | 120426
Duval (FEMA Docket No.: B-2251) | City of Jacksonville Beach (22-04-0750P) | The Honorable Christine Hoffman, Mayor, City of Jacksonville Beach, 11 North 3rd Street, Jacksonville Beach, FL 32250 | Planning and Development Department, 11 North 3rd Street, Jacksonville Beach, FL 32250 | Sep. 28, 2022 | 120078
Lee (FEMA Docket No.: B-2251) | City of Bonita Springs (22-04-0173P) | The Honorable Rick Steinmeyer, Mayor, City of Bonita Springs, 9101 Bonita Beach Road, Bonita Springs, FL 34135 | Community Development Department, 9220 Bonita Beach Road, Bonita Springs, FL 34135 | Sep. 23, 2022 | 120680
Manatee (FEMA Docket No.: B-2251) | Unincorporated areas of Manatee County (21-04-2233P) | The Honorable Kevin Van Ostenbridge, Chair, Manatee County Board of Commissioners, 1112 Manatee Avenue West, Bradenton, FL 34205 | Manatee County Building and Development Services Department, 1112 Manatee Avenue West, Bradenton, FL 34205 | Oct. 14, 2022 | 120153
Monroe (FEMA Docket No.: B-2251) | Unincorporated areas of Monroe County (22-04-0860P) | The Honorable David Rice, Mayor, Monroe County Board of Commissioners, 1100 Simonton Street, Key West, FL 33040 | Monroe County Building Department, 2798 Overseas Highway, Suite 300, Marathon, FL 33050 | Sep. 22, 2022 | 125129
Monroe (FEMA Docket No.: B-2251) | Unincorporated areas of Monroe County (22-04-2418P) | The Honorable David Rice, Mayor, Monroe County Board of Commissioners, 1100 Simonton Street, Key West, FL 33040 | Monroe County Building Department, 2798 Overseas Highway, Suite 300, Marathon, FL 33050 | Oct. 3, 2022 | 125129
Osceola (FEMA Docket No.: B-2251) | City of St. Cloud (20-04-5566P) | Bill Sturgeon, Manager, City of St. Cloud, 1300 9th Street, St. Cloud, FL 34769 | Building Department, 1300 9th Street, St. Cloud, FL 34769 | Oct. 3, 2022 | 120191
Polk (FEMA Docket No.: B-2251) | Unincorporated areas of Polk County (22-04-0291X) | Bill Beasley, Manager, Polk County, 330 West Church Street, Bartow, FL 33831 | Polk County Land Development Division, 330 West Church Street, Bartow, FL 33831 | Oct. 13, 2022 | 120261
Sarasota (FEMA Docket No.: B-2253) | City of Sarasota (22-04-2558P) | The Honorable Erik Arroyo, Mayor, City of Sarasota, 1565 1st Street, Room 101, Sarasota, FL 34236 | Development Services Department, 1565 1st Street, Sarasota, FL 34236 | Oct. 11, 2022 | 125150
Seminole (FEMA Docket No.: B-2251) | City of Lake Mary (22-04-0236P) | Kevin Smith, Manager, City of Lake Mary, 100 North Country Club Road, Lake Mary, FL 32795 | Municipal Services Complex, 911 Wallace Court, Lake Mary, FL 32746 | Oct. 3, 2022 | 120416
Kentucky: Jefferson (FEMA Docket No.: B-2251) | Louisville-Jefferson County Metro Government (21-04-5654P) | The Honorable Greg Fischer, Mayor, Louisville-Jefferson County, Metro Government, 527 West Jefferson Street, Louisville, KY 40202 | Louisville-Jefferson County Metropolitan Sewer District, 700 West Liberty Street, Louisville, KY 40203 | Sep. 26, 2022 | 210120
Louisiana: Lafayette (FEMA Docket No.: B-2268) | City of Youngsville (21-06-3256P) | The Honorable Ken Ritter, Mayor, City of Youngsville, 305 Iberia Street, Youngsville, LA 70592 | City Hall, 305 Iberia Street, Youngsville, LA 70592 | Oct. 14, 2022 | 220358
Maryland: Prince George's (FEMA Docket No.: B-2251) | Unincorporated areas of Prince George's County (21-03-1450P) | The Honorable Angela D. Alsobrooks, Executive, Prince George's County, 1301 McCormick Drive, Suite 4000, Largo, MD 20774 | Prince George's County Department of Permitting Inspections and Enforcement, 9400 Peppercorn Place, Suite 230, Largo, MD 20774 | Sep. 23, 2022 | 245208
New Hampshire: Carroll (FEMA Docket No.: B-2259) | Town of Jackson (22-01-0604P) | The Honorable Barbara Campbell, Chair, Town of Jackson Board of Selectmen, 54 Main Street, Jackson, NH 03846 | Building Department, 54 Main Street, Jackson, NH 03846 | Oct. 11, 2022 | 330014
North Carolina: Durham (FEMA Docket No.: B-2251) | Unincorporated areas of Durham County (21-04-5308P) | The Honorable Brenda Howerton, Chair, Durham County Board of Commissioners, 200 East Main Street, Durham, NC 27701 | Durham County Planning Department, 101 City Hall Plaza, Durham, NC 27701 | Sept. 21, 2022 | 370085
Oklahoma: Canadian and Oklahoma (FEMA Docket No.: B-2253) | City of Oklahoma City (21-06-3298P) | The Honorable David Holt, Mayor, City of Oklahoma City, 200 North Walker Avenue, 3rd Floor, Oklahoma City, OK 73102 | Public Works Department, 420 West Main Street, Suite 700, Oklahoma City, OK 73102 | Oct. 14, 2022 | 405378
Pennsylvania:
Philadelphia (FEMA Docket No.: B-2253) | City of Philadelphia (21-03-1283P) | The Honorable Jim Kenney, Mayor, City of Philadelphia, 1400 John F. Kennedy Boulevard, Room 215, Philadelphia, PA 19107 | Department of Licenses and Inspections, 1401 John F. Kennedy Boulevard, 11th Floor, Philadelphia, PA 19102 | Sep. 26, 2022 | 420757
Philadelphia (FEMA Docket No.: B-2253) | Township of Lower Merion (21-03-1283P) | Ernie B. McNeely, Manager, Township of Lower Merion, 75 East Lancaster Avenue, Ardmore, PA 19003 | Township Hall, 75 East Lancaster Avenue, Ardmore, PA 19003 | Sep. 26, 2022 | 420701
South Carolina:
Sumter (FEMA Docket No.: B-2253) | City of Sumter (22-04-2326P) | The Honorable David P. Merchant, Mayor, City of Sumter, 21 North Main Street, Sumter, SC 29151 | Sumter City-County Planning Department, 12 West Liberty Street, Sumter, SC 29150 | Sep. 30, 2022 | 450184
Sumter (FEMA Docket No.: B-2253) | Unincorporated areas of Sumter County (22-04-2326P) | The Honorable James T. McCain, Jr., Chair, Sumter County Council, 13 East Canal Street, Sumter, SC 29150 | Sumter City-County Planning Department, 12 West Liberty Street, Sumter, SC 29150 | Sep. 30, 2022 | 450182
Texas:
Bexar (FEMA Docket No.: B-2253) | Unincorporated areas of Bexar County (21-06-2900P) | The Honorable Nelson W. Wolff, Bexar County Judge, 101 West Nueva Street, 10 Floor, San Antonio, TX 78205 | Bexar County Public Works Department, 1948 Probandt Street, San Antonio, TX 78214 | Oct. 3, 2022 | 480035
Collin (FEMA Docket No.: B-2253) | City of Anna (21-06-3396P) | The Honorable Nate Pike, Mayor, City of Anna, P.O. Box 776, Anna, TX 75409 | Public Works Department, 3223 North Powell Parkway, Anna, TX 75409 | Sep. 26, 2022 | 480132
Collin (FEMA Docket No.: B-2253) | Unincorporated areas of Collin County (21-06-3396P) | The Honorable Chris Hill, Collin County Judge, 2300 Bloomdale Road, Suite 4192, McKinney, TX 75071 | Collin County Engineering Department, 4690 Community Avenue, Suite 200, McKinney, TX 75071 | Sep. 26, 2022 | 480130
Denton (FEMA Docket No.: B-2251) | City of Fort Worth (22-06-0847P) | The Honorable Mattie Parker, Mayor, City of Fort Worth, 200 Texas Street, Fort Worth, TX 76102 | Transportation and Public Works Department, Engineering Vault, 200 Texas Street, Fort Worth, TX 76102 | Oct. 11, 2022 | 480596
Hays (FEMA Docket No.: B-2253) | City of Buda (21-06-2861P) | The Honorable Lee Urbanovsky, Mayor, City of Buda, 405 East Loop Street, Building 100, Buda, TX 78610 | Engineering Department, 405 East Loop Street, Building 100, Buda, TX 78610 | Oct. 13, 2022 | 481640
Hays (FEMA Docket No.: B-2253) | Unincorporated areas of Hays County (21-06-2861P) | The Honorable Ruben Becerra, Hays County Judge, 111 East San Antonio Street, Suite 300, San Marcos, TX 78666 | Hays County Office of Development Services, 2171 Yarrington Road, Suite 100, Kyle, TX 78640 | Oct. 13, 2022 | 480321
Johnson (FEMA Docket No.: B-2251) | City of Burleson (21-06-3092P) | The Honorable Chris Fletcher, Mayor, City of Burleson, 141 West Renfro Street, Burleson, TX 76028 | City Hall, 141 West Renfro Street, Burleson, TX 76028 | Oct. 6, 2022 | 485459
Tarrant (FEMA Docket No.: B-2251) | City of Fort Worth (21-06-2361P) | The Honorable Mattie Parker, Mayor, City of Fort Worth, 200 Texas Street, Fort Worth, TX 76102 | Transportation and Public Works Department, Engineering Vault, 200 Texas Street, Fort Worth, TX 76102 | Sep. 29, 2022 | 480596
Tarrant (FEMA Docket No.: B-2251) | Unincorporated areas of Tarrant County (21-06-2361P) | The Honorable B. Glen Whitley, Tarrant County Judge, 100 East Weatherford Street, Room 502A, Fort Worth, TX 76196 | Tarrant County Administration Building, 100 East Weatherford Street, Fort Worth, TX 76196 | Sep. 29, 2022 | 480582
Tarrant (FEMA Docket No.: B-2253) | City of Mansfield (22-06-0409P) | The Honorable Michael A. Evans, Mayor, City of Mansfield, 1200 East Broad Street, Mansfield, TX 76063 | Department of Zoning and Planning, 1200 East Broad Street, Mansfield, TX 76063 | Oct. 11, 2022 | 480606
Williamson (FEMA Docket No.: B-2251) | City of Leander (21-06-2660P) | Mr. Richard B. Beverlin, III, Manager, City of Leander, 105 North Brushy Street, Leander, TX 78641 | Engineering Department, 201 North Brushy Street, Leander, TX 78641 | Oct. 14, 2022 | 481536
Utah: Weber (FEMA Docket No.: B-2253) | Unincorporated areas of Weber County (21-08-1088P) | The Honorable Scott Jenkins, Chair, Weber County Commission, 2380 Washington Boulevard, Suite 360, Ogden, UT 84401 | Weber County Center, 2380 Washington Boulevard, Suite 360, Ogden, UT 84401 | Oct. 3, 2022 | 490187

[FR Doc. 2022-23548 Filed 10-27-22; 8:45 am]

BILLING CODE 9110-12-P